DEPARTMENT OF DEFENSE

Office of the Secretary

Submission for OMB Review; Comment Request

ACTION: Notice.

The Department of Defense has submitted to OMB for clearance, the following proposal for collection of information under the provisions of the Paperwork Reduction Act (44 U.S.C. Chapter 35). The Office of Management and Budget had previously approved this information collection requirement for use through September 30, 2001.

DATES: Consideration will be given to all comments received by November 13, 2001.

Title, Form Number, and OMB Number: Application for an Appointment as a Reserve of the Air Force or USAF Without Component; AF Form 24; OMB Number 0701-0096.

Type of Request: Reinstatement.

Number of Respondents: 5,899.

Responses per Respondent: 1.

Annual Responses: 5,899.

Average Burden per Response: 20 minutes.

Annual Burden Hours: 1,966.

Needs And Uses: The information collection requirement is necessary to provide information to determine if an applicant meets the qualifications established for appointment in the Reserves of the Air Force or the Air Force without component and entry into active duty.

The information contained on AF Form 24 supports the Air Force as it applies to direct appointment (procurement) programs for civilian and military applicants. It provides necessary information to determine if an applicant meets qualifications established for appointment to fill authorized ANGUS and USAFR position vacancies and active duty requirements. Eligibility requirements are outlined in Air Force Instruction 36-2005.

Affected Public: Individuals or households.

Frequency: On occasion.

Respondent's Obligation: Required to obtain or retain benefits.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: October 4, 2001.
Patricia L. Toppings,
Alternate OSD Federal Register Liaison Officer, Department of Defense.

[FR Doc. 01-25667 Filed 10-11-01; 8:45 am]

BILLING CODE 5001-08-M